FEDERAL COMMUNICATIONS COMMISSION

[DA 21-51; FRS 17405]

Federal Advisory Committee Act; Disability Advisory Committee; Announcement of First Meeting

AGENCY: Federal Communications Commission.

ACTION: Notice.

SUMMARY: The Federal Communications Commission (Commission) hereby announces that the charter of the Disability Advisory Committee (hereinafter Committee) has been renewed pursuant to the Federal Advisory Committee Act (FACA) and following consultation with the Committee Management Secretariat, General Services Administration. The Commission also announces and provides an agenda for the first meeting of the fourth term of the Committee.

DATES: The Committee's first meeting will take place on Thursday, February 18, 2021. The meeting will come to order at 1:30 p.m. Eastern Time.

ADDRESSES: The Committee meeting will be held remotely, with video and audio coverage at www.fcc.gov/live.

FOR FURTHER INFORMATION CONTACT: Debra Patkin, Designated Federal Officer (DFO), Federal Communications Commission, Consumer and Governmental Affairs Bureau, (202) 870-5226, or email: DAC@fcc.gov; or Will Schell, Deputy DFO, at (202) 418-0767.

SUPPLEMENTARY INFORMATION: Committee Renewal: After consultation with the General Services Administration, the Commission renewed the charter on December 17, 2020 providing the Committee with authorization to operate for two years.

The mission of the Committee is to make recommendations to the Commission on the full range of disability access topics specified by the Commission and to facilitate the participation of consumers with disabilities in proceedings before the Commission. In addition, this Committee is intended to provide an effective means for stakeholders with interests in this area, including consumers with disabilities, to exchange ideas, which will in turn enhance the Commission's ability to effectively address disability access issues relevant to matters under its purview.

The Committee is organized under, and operates in accordance with, the provisions of the FACA (5 U.S.C. App. 2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two years from the date that this renewal is effective (on or before December 17, 2022), or earlier upon the completion of its work as determined by the Chairman, unless its charter is renewed prior to the termination date.

During the Committee's fourth term, it is anticipated that the Committee will meet, either in-person in Washington, DC or, if appropriate, by teleconference, for at least three (3) one-day meetings.

In addition, as needed, working groups or subcommittees (ad hoc or steering) will be established to facilitate the Committee's work between meetings of the full Committee. All meetings, including those of working groups and subcommittees, will be fully accessible to individuals with disabilities.

First Meeting: The February 18, 2021 meeting is open to members of the general public. The meeting will be webcast with American Sign Language interpreters and open captioning at: www.fcc.gov/ live. In addition, a reserved amount of time will be available on the agenda for comments and inquiries from the public. Members of the public may comment or ask questions of presenters via the email address livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the Committee is expected to discuss the roles and responsibilities of the Committee and its members; issues that the Committee will address; meeting schedules; and any other topics relevant to the Committee's work. The Committee may also receive briefings from Commission staff on issues of interest to the Committee and may discuss topics of interest to the committee, including, but not limited to, matters concerning communications transitions, telecommunications relay services, emergency access, and video programming accessibility.

Federal Communications Commission.
Suzanne Singleton,
Chief, Disability Rights Office, Consumer and Governmental Affairs Bureau.

[FR Doc. 2021-01244 Filed 1-19-21; 8:45 am]

BILLING CODE 6712-01-P